SMALL BUSINESS ADMINISTRATION

National Small Business Development Centers Advisory Board; Public Meeting

The National Small Business Development Center Advisory Board will hold a public meeting at 9 a.m. est on Thursday, Sept. 13, 2001 in the Windsor Room of the Hyatt Regency Hotel, 300 Reunion Boulevard, Dallas, Texas, to discuss such matters as may be presented by members, staff of the Small Business Administration, or others present. Anyone wishing to make an oral presentation to the Board must contact Ellen Thrasher, Designated Federal Officer, in writing by letter or fax no later than September 4, 2001, in order to be put on the agenda. Ellen Thrasher, Deputy Associate Administrator, U.S. Small Business Administration, Office of Small Business Development Centers, 409 Third Street, SW., 4th Floor, Washington, DC 20416 phone (202) 205-6766 fax (202) 205-7727.

Steve Tupper,
SBA Committee Management Officer.

[FR Doc. 01-21911 Filed 8-29-01; 8:45 am]

BILLING CODE 8025-01-P